DEPARTMENT OF HOUSING AND URBAN DEVELOPMENT

[Docket No. FR-4837-D-37]

Delegation of Authority to the Director of the Office of Healthy Homes and Lead Hazard Control

AGENCY: Office of the Secretary, HUD.

ACTION: Notice of delegation of authority.

SUMMARY: In this notice, the Secretary delegates to the Director of the Office of Healthy Homes and Lead Hazard Control, all authority of the Secretary pursuant to the Lead-Based Paint Poisoning Prevention Act, the Residential Lead-Based Paint Hazard Reduction Act of 1992, sections 501 and 502 of the Housing and Urban Development Act of 1970 for matters pertaining to healthy homes, the Lead Disclosure Rule, and the Lead Safe Housing Rule.

EFFECTIVE DATE: June 24, 2003.

FOR FURTHER INFORMATION CONTACT: John B. Shumway, Office of Finance and Regulatory Enforcement, Department of Housing and Urban Development, 451 Seventh Street, SW., Washington, DC 20410-0001, (202) 708-3137, extension 5190. This is not a toll-free number. Speech- or hearing-impaired individuals may access this number through TTY by calling the toll-free Federal Information Relay Service at 1-800-877-8339.

SUPPLEMENTARY INFORMATION: Accordingly, the Secretary delegates authority as follows:

Section A. Authority Delegated

The Secretary delegates to the Director of the Office of Healthy Homes and Lead Hazard Control all authority of the Secretary pursuant to the Lead-Based Paint Poisoning Prevention Act (42 U.S.C. 4821 et seq.); the Residential Lead-Based Paint Hazard Reduction Act of 1992 ( 42 U.S.C. 4851 et seq.); sections 501 and 502 of the Housing and Urban Development Act of 1970 (12 U.S.C. 1701z-1 and 1701z-2) for matters pertaining to healthy homes; the Lead Disclosure Rule (24 CFR part 35, subpart A); the Lead Safe Housing Rule (24 CFR part 35, subparts B through R); and authorizing legislation pertaining to healthy homes and/or lead hazard control contained within annual appropriations acts.

Section B. Authority Excepted

The authority delegated in this document does not include the authority to issue or waive regulations, or to sue and be sued.

Section C. Authority to Redelegate

The Secretary authorizes the Director of the Office of Healthy Homes and Lead Hazard Control to redelegate the authority described in Section A.

Section D. Delegations of Authority Superseded

This delegation supersedes any existing notices of delegations of authority concerning this function prior to March 1, 2003.

Authority: Section 7(d) of the Department of Housing and Urban Development Act (42 U.S.C. 3535(d)).

Dated: June 24, 2003.
Mel Martinez,
Secretary.

[FR Doc. 03-16594 Filed 6-30-03; 8:45 am]

BILLING CODE 4210-32-P